U.S.-CHINA ECONOMIC AND SECURITY REVIEW COMMISSION

Notice of Open Public Hearing

AGENCY: U.S.-China Economic and Security Review Commission.

ACTION: Notice of Open Public Hearing—April 24-25 2008, New Orleans, Louisiana.

SUMMARY: Notice is hereby given of the following hearing of the U.S.-China Economic and Security Review Commission.

Name: Larry Wortzel, Chairman of the U.S.-China Economic and Security Review Commission.

The Commission is mandated by Congress to investigate, assess, evaluate and report to Congress annually on the national security implications and impact of the bilateral trade and economic relationship between the United States and the People's Republic of China, and to provide recommendations, where appropriate, to Congress for legislative and administrative action.

Pursuant to this mandate, the Commission will hold a public hearing in New Orleans, Louisiana.

Background

This event is the fourth in a series of public hearings the Commission will hold during its 2008 report cycle to collect input from leading experts in government, business, industry, academia and the public on the impact of the economic and national security implications of the U.S. growing bilateral trade and economic relationship with China. The April 24-25 hearing is being conducted to obtain commentary on the safety and trade issues related to imported seafood from China. This hearing will address the U.S. government and seafood industry perspectives, as well as the health and safety risks associated with Chinese seafood imports, and will be Co-chaired by Vice Chairman Carolyn Bartholomew and Commissioner Daniel Slane.

Information on upcoming hearings, as well as transcripts of past Commission hearings, can be obtained from the USCC Web Site http//www.uscc.gov.

Purpose of Hearing

The hearing is designed to assist the Commission in fulfilling its mandate by examining the effects on the U.S. fishing industry of imported seafood from China and the resulting health and safety risks associated with Chinese seafood imports. The hearing will also highlight how such factors negatively or positively affect U.S. companies, investors, and workers.

Copies of the hearing agenda will be made available on the Commission's Web site http://www.uscc.gov. Any interested party may file a written statement by April 24, 2008, by mailing to the contact below.

The hearing will be held in two sessions, one in the morning and one in the afternoon, on April 24 and a morning session on April 25 where Commissioners will take testimony from invited witnesses. There will be a question and answer period between the Commissioners and the witnesses. Public participation is invited during the open-microphone session for public comment at the conclusion of the afternoon session on April 24. Sign-up for open-microphone session will take place in the morning of April 24 beginning at 8:30 a.m. and will be on first come, first served basis. Each individual or group making an oral presentation will be limited to a total of 5 minutes. Because of time constraints, parties with common interests are encouraged to designate a single speaker to represent their views.

DATE AND TIME: Thursday, April 24, 2008, 9 a.m. to 3:45 p.m. and Friday, April 25, 2008, 9 a.m. to 1:30 p.m. Eastern Daylight Time. A detailed agenda for the hearing will be posted to the Commission's Web site http://www.uscc.gov in the near future.

ADDRESSES: The hearing will be held at the Pan American Life Conference and Media Center, Orleans Room located on the 11th floor in the Pan American Building at 601 Poydras Street, New Orleans, Louisiana 70130. Public seating is limited to about 50 people on a first come, first serve basis. Advance reservations are not required.

FOR FURTHER INFORMATION CONTACT: Any member of the public wishing further information concerning the hearing should contact Kathy Michels, Associate Director for the U.S.-China Economic and Security Review Commission, 444 North Capitol Street, NW., Suite 602, Washington DC 20001; phone: 202-624-1409, or via email at kmichels@uscc.gov.

Authority: Congress created the U.S.-China Economic and Security Review Commission in 2000 in the National Defense Authorization Act (Public Law 106-398), as amended by Division P of the Consolidated Appropriations Resolution, 2003 (Public Law 108-7), as amended by Public Law 109-108 (November 22, 2005), and Public Law 110-161 (December 26, 2007).

Dated: April 1, 2008.
Kathleen J. Michels,
Associate Director, U.S.-China Economic and Security Review Commission.

[FR Doc. E8-7014 Filed 4-3-08; 8:45 am]

BILLING CODE 1137-00-P